DEPARTMENT OF STATE

[Public Notice 11501]

60-Day Notice of Proposed Information Collection: Request for Authentication Service in the United States

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 18, 2021.

ADDRESSES: You may submit comments by any of the following methods:

• Web: Persons with access to the internet may comment on this notice by going to www.Regulations.gov. You can search for the document by entering “Docket Number: DOS-2021-0026” in the Search field. Then click the “Comment Now” button and complete the comment form.

• Email: PPTFormsOfficer@state.gov.

• Regular Mail: Send written comments to: Passport Forms Officer, U.S. Department of State, CA/PPT/S/PMO, 44132 Mercure Cir., P.O. Box 1199, Sterling, VA 20166-1199.

You must include the DS form number (DS-4194), information collection title, and the OMB control number in any correspondence.

FOR FURTHER INFORMATION CONTACT: Direct requests for additional information regarding the collection listed in this notice, including requests for copies of the proposed collection instrument and supporting documents, to Kim Makle, Program Manager, U.S. Department of State, CA/PPT/S/PMO, 44132 Mercure Cir., P.O. Box 1199, Sterling, VA 20166-1199, who may be reached at PPTFormsOfficer@state.gov.

SUPPLEMENTARY INFORMATION:

• Title of Information Collection: Request for Authentications Service DS-4194.

• OMB Control Number: None.

• Type of Request: Existing Information Collection Request without OMB Control Number.

• Originating Office: Bureau of Consular Affairs, Passport Services, Office of Program Management and Operational Support (CA/PPT/S/PMO).

• Form Number: DS-4194.

• Respondents: This information collection will be used by members of the public who wish to authenticate a document in the United States.

• Estimated Number of Respondents: 47,094.

• Estimated Number of Responses: 47,094.

• Average Time per Response: 10 minutes.

• Total Estimated Burden Time: 7,849 hours.

• Frequency: Information is requested only when an applicant submits the form to obtain a benefit.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The form created by this information collection (DS-4194) will be used to request authentications services from the Authentications Office of the U.S. Department of State in the United States. In accordance with 22 CFR part 131, the Office of Authentications provides authentication services for federal public documents that will be used overseas. These services support individuals, commercial organizations, institutions, and federal and state government agencies seeking to use certain documents abroad.

Methodology

The form will be downloaded from http://eforms.state.gov. After completion, the form may be submitted by mail or hand-delivery.

Rachel M. Arndt,
Deputy Assistant Secretary for Passport Services, Bureau of Consular Affairs, Department of State.

[FR Doc. 2021-17705 Filed 8-17-21; 8:45 am]

BILLING CODE 4710-06-P